DEPARTMENT OF STATE

[Public Notice 7234]

Shipping Coordinating Committee; Notice of Committee Meeting

The Shipping Coordinating Committee (SHC) will conduct an open meeting at 9:30 a.m. on Tuesday, January 18, 2011, in Room 6103 of the United States Coast Guard Headquarters Building, 2100 Second Street, SW., Washington, DC 20593-0001. The primary purpose of the meeting is to prepare for the forty-second Session of the International Maritime Organization's (IMO) Standards of Training and Watchkeeping (STW) to be held at the IMO headquarters in London, United Kingdom, from January 24 to January 28, 2011.

The primary matters to be considered include:

—Adoption of the agenda;

—Decisions of other IMO bodies;

—Validation of model training courses;

—Unlawful practices associated with certificates of competency;

—Casualty analysis;

—Development of an e-navigation strategy implementation plan;

—Revision of the Recommendations for entering enclosed spaces aboard ships;

—Development of model procedures for executing shipboard emergency measures;

—Development of training standards for recovery systems;

—Development of unified interpretations for the term “approved seagoing service”;

—Work program and provisional agenda for STW 43;

—Election of Chairman and Vice-Chairman for 2012;

—Any other business;

—Report to the Marine Safety Committee.

Members of the public may attend this meeting up to the seating capacity of the room. To facilitate the building security process, and to request reasonable accommodation, those who plan to attend should contact the meeting coordinator, Ms. Zoe Goss, by e-mail at zoe.a.goss@uscg.mil, by phone at (202) 372-1425, by fax at (202) 372-1926, or in writing at Commandant (CG-5221), U.S. Coast Guard, 2100 2nd Street, SW., Stop 7126, Washington, DC 20593-7126 not later than January 11th, 2011, 7 days prior to the meeting. Requests made after January 11th might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: November 24, 2010.
Jon Trent Warner,
Executive Secretary, Shipping Coordinating Committee, Department of State.

[FR Doc. 2010-30378 Filed 12-2-10; 8:45 am]

BILLING CODE 4710-09-P